DEPARTMENT OF ENERGY

Federal Energy Regulatory Commission

[Docket No. QF01-103-002]

Decatur Energy Center, LLC and Solutia Inc.; Notice of Filing

December 5, 2001.

Take notice that on November 30, 2001, Decatur Energy Center, LLC and Solutia Inc. tendered for filing with the Federal Energy Regulatory Commission (Commission) an amendment to the application for certification of qualifying facility status of a cogeneration facility pursuant to part 292 of the Commission's regulations. The amendment provides additional information concerning the useful thermal output of the facility.

Any person who wishes to be heard or to object to granting qualifying status should file a motion to intervene or protest with the Federal Energy Regulatory Commission, 888 First Street, NE., Washington, DC 20426, in accordance with rules 211 and 214 of the Commission's Rules of Practice and Procedure. All such motions or protests must be filed on or before December 31, 2001, and must be served on the Applicant. Protests will be considered by the Commission in determining the appropriate action to be taken but will not serve to make protestants parties to the proceeding. Any person who wishes to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30554 Filed 12-10-01; 8:45 am]

BILLING CODE 6717-01-P